DEPARTMENT OF ENERGY

Federal Energy Regulatory Commission

[Docket No. RP03-281-003]

Columbia Gas Transmission Corporation; Notice of Complaince Filing

March 3, 2004.

Take notice that on February 27, 2004, Columbia Gas Transmission Corporation (Columbia), tendered for filing as part of its FERC Gas Tariff, Second Revised Volume No. 1, the tariff sheets and effective dates listed on Attachment A to the filing.

Columbia explains that, in an order issued on February 12, 2004, in Docket No. RP03-281, the Commission directed Columbia to modify the EPCA rates placed into effect subject to refund in this docket for the period beginning April 1, 2003, and to make refunds as necessary based upon the revised rates. Columbia states that it has recalculated its April 1, 2003, EPCA rates in compliance with the February 12 Order, and is herein submitting the tariff sheets containing the recalculated EPCA rates that were effective from April 1, 2003, to the present.

Columbia states that copies of its filing have been mailed to all firm customers, interruptible customers, affected state commissions, and parties on the official service list in this proceeding.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-487 Filed 3-8-04; 8:45 am]

BILLING CODE 6717-01-P